DEPARTMENT OF THE INTERIOR

Office of the Secretary

[211D0102DR. DS62400000. DL1000000.000000. DR.62452.21NPS100; OMB Control Number 1084-0034]

Agency Information Collection Activities; Documenting, Managing and Preserving Department of the Interior Museum Collections Housed in Non-Federal Repositories

AGENCY: Office of Acquisition and Property Management, Interior.

ACTION: Notice of information collection; request for comment.

SUMMARY: In accordance with the Paperwork Reduction Act of 1995, we, the Office of Acquisition and Property Management, Office of the Secretary, Department of the Interior are proposing to renew an information collection.

DATES: Interested persons are invited to submit comments on or before July 29, 2021.

ADDRESSES: Send written comments on this information collection request (ICR) to the Office of Management and Budget's Desk Officer for the Department of the Interior by email at OIRA_Submission@omb.eop.gov; or via facsimile to (202) 395-5806. Please provide a copy of your comments to Emily Palus, Office of Acquisition and Property Management, U.S. Department of the Interior, 1849 C Street NW, MS 4262-MIB, Washington, DC 20240; or by email to Emily_Palus@ios.doi.gov. Please reference OMB Control Number 1084-0034 in the subject line of your comments.

FOR FURTHER INFORMATION CONTACT: To request additional information about this ICR, contact Emily Palus by email at Emily_Palus@ios.doi.gov, or by telephone at 202-513-7563. You may also view the ICR at http://www.reginfo.gov/public/do/PRAMain.

SUPPLEMENTARY INFORMATION: In accordance with the Paperwork Reduction Act of 1995 and 5 CFR 1320.8(d)(1), all information collections require approval. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

A Federal Register notice with a 60-day public comment period soliciting comments on this collection of information was published on January 14, 2021 (86 FR 3176). One comment was received from a Federally recognized Indian tribe, Colorado River Indian Tribes. The Colorado River Indian Tribes do not hold DOI museum collections. The comment requested that DOI share information obtained from non-Federal repositories about certain DOI museum collections with affiliated tribes. The comment did not include reference to cost or hour burden. Although the comment did not address the information collection directly the Program is willing to share this information with the Tribe as appropriate.

We are again soliciting comments on the proposed ICR that is described below. We are especially interested in public comment addressing the following issues: (1) Whether the collection of information is necessary for the proper performance of the functions of the agency, including whether the information will have practical utility; (2) The accuracy of our estimate of the burden for this collection of information, including the validity of the methodology and assumptions used; (3) Ways to enhance the quality, utility, and clarity of the information to be collected; and (4) How might the agency minimize the burden of this collection of information on those who are to respond, including through the use of appropriate automated, electronic, mechanical, or other technological collection techniques or other forms of information technology (e.g., permitting electronic submission of response).

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The information collection regarding Documenting, Managing and Preserving Department of the Interior Museum Collections Housed in Non-Federal Repositories is crucial to the work the Department of the Interior (DOI) does to manage an estimated 74 million museum objects and over 91 thousand linear feet of archives in trust for the American public. This diverse collection consists of archaeological artifacts, archives, biological specimens, ethnographic objects, fine arts, geological specimens, historic objects, and paleontological specimens that are owned and managed by the Department's bureaus and offices (bureaus). This information collection request is directed to non-Federal repositories that house DOI museum collections. The information that DOI obtains, on a voluntary basis, concerns DOI museum collections held at non-Federal repositories. Receipt of this information supports the Department's management of its museum collections for public benefit, including preservation, protection, access, and use, as well as where applicable, compliance with the Native American Graves Protection and Repatriation Act (NAGPRA).

The information that DOI seeks consists of the following:

A. Accession Records and associated files regarding acquisition;

B. Catalog Records and associated files describing the objects and their use;

C. Facility Checklist for Spaces Housing DOI Museum Property (Checklist), which addresses the environmental, security, and other management controls in place to document and safeguard the collections;

D. Inventory of Museum Collections (Inventory) documenting presence and condition of objects and records; and

E. Input on Collections from Lands Administered by the U.S. Department of the Interior that are Located at Non-Federal Facilities (Input Form) to query a limited range of information about the repository, the scope and types of DOI collections in repositories, with which bureaus and offices those collections are associated and the nature of any agreements, the status of documentation and NAGPRA compliance, and availability for research and use.

Although the majority of DOI's documented collections are housed in bureau facilities across the nation, at least 10 percent are located at approximately 970 non-Federal repositories, primarily state, tribal, and local museums and university departments. Most of the DOI museum artifacts, specimens, and archives housed in non-Federal repositories resulted from projects on Federal lands, and include collections from the disciplines of archaeology, biology, geology, and paleontology, as well as associated project documentation.

DOI museum objects cared for in non-Federal repositories are those artifacts, specimens, and archives that are established as Federal property under Federal law. Common law also confers rights to landowners, including the Federal government, such as ownership of property, resources, and other tangible assets existing on or originating from those lands, unless those rights were previously relinquished, sold, awarded, or otherwise reassigned. Also, permits and other agreements for the collection of artifacts and specimens from public lands managed at the time by the Department further affirm Federal ownership. In order to maintain accountability of and facilitate access to DOI museum objects, the objects must be documented in the Interior Collection Management System (ICMS), its successor, the Museum Collection Management System (MCMS), or in another collection management database from which the necessary data can be imported into ICMS or MCMS.

Federal regulations and DOI policy require that all permittees conducting authorized scientific research and authorized individuals performing compliance activities on DOI-managed lands must ensure that any retained museum specimens or objects collected during a project are: (1) Accessioned and cataloged in ICMS/MCMS, according to DOI standards; and (2) housed in an appropriate museum repository that meets DOI museum standards. These requirements ensure the collections' long-term preservation, protection, and accessibility for access and use.

Title of Collection: Documenting, Managing and Preserving Department of the Interior Museum Collections Housed in Non-Federal Repositories.

OMB Control Number: 1084-0034.

Form Number: None.

Type of Review: Extension of a currently approved collection.

Respondents/Affected Public: Museums; academic, cultural, and research institutions; and, state or local agencies and institutions.

Total Estimated Number of Annual Respondents: 900.

Total Estimated Number of Annual Responses: 900.

Estimated Completion Time per Response: Varies from less than 1 hour to 80 hours, depending on activity.

Total Estimated Number of Annual Burden Hours: 4,155 Hours.

Respondent's Obligation: Voluntary.

Frequency of Collection: Maximum of once per year per collection instrument, and likely less frequently.

Total Estimated Annual Nonhour Burden Cost: None.

An agency may not conduct or sponsor and a person is not required to respond to a collection of information unless it displays a currently valid OMB control number.

The authority for this action is the Paperwork Reduction Act of 1995 (44 U.S.C. 3501 et seq.).

Megan Olsen,
Director, Office of Acquisition and Property Management.

[FR Doc. 2021-13875 Filed 6-28-21; 8:45 am]

BILLING CODE 4334-63-P